FEDERAL COMMUNICATIONS COMMISSION

[DA 05-1058]

Consumer Advisory Committee

AGENCY: Federal Communications Commission.

ACTION: Notice.

SUMMARY: In this document, the Commission announces a change in the date of the meeting of its Consumer Advisory Committee meeting (Committee).

ADDRESSES: Federal Communications Commission, 445 12th Street, NW., Room TW-C305, Washington, DC 20554.

DATES: The Consumer Advisory Committee meeting has been rescheduled for Friday June 10, 2005, 9 a.m. to 4 p.m.

FOR FURTHER INFORMATION CONTACT: Scott Marshall, Consumer & Governmental Affairs Bureau, (202) 418-2809 (voice), (202) 418-0179 (TTY), or e-mail scott.marshal@fcc.gov.

SUPPLEMENTARY INFORMATION: This is a summary of the Commission's document DA 05-1058, dated and released April 14, 2005.

The Committee is organized under, and operates in accordance with the provisions of the Federal Advisory Committee Act, 5 U.S.C., App. 2 (1988). Minutes of meetings are available for public inspection and are posted on the Commission's Web site at http://www.fcc.gov/cgb/cac. Meetings are broadcast on the Internet in Real Audio/Real Video format with captioning at http://www.fcc.gov/cgb/cac. Meetings are sign language interpreted with real-time transcription and assistive listening devices available. Meeting agendas and handout materials are provided in accessible formats. The meeting site is accessible to people with disabilities.

Members of the public may address the Committee or may send written comments to: Scott Marshall, Designated Federal Officer of the Committee.

To request materials in accessible formats for people with disabilities (Braille, large print, electronic files, audio format), send an e-mail to fcc504@fcc.gov or call the Consumer & Governmental Affairs Bureau at (202) 418-0530 (voice), (202) 418-0432 (TTY).

Federal Communications Commission.
Jay Keithley,
Acting Chief, Consumer & Governmental Affairs Bureau.

[FR Doc. 05-8683 Filed 5-3-05; 8:45 am]

BILLING CODE 6712-01-P